DEPARTMENT OF LABOR

Employment and Training Administration

Announcing the New iCERT Portal System for Temporary and Permanent Labor Certifications

AGENCY: Employment and Training Administration, Department of Labor.

ACTION: Notice.

SUMMARY: The Employment and Training Administration (ETA) is announcing a new electronic system for submitting the Labor Condition Application (LCA) and the Application for Permanent Employment Certification.

DATES: This Notice is effective April 15, 2009.

FOR FURTHER INFORMATION CONTACT: For technical issues stemming from the iCERT portal, please contact David Wilson, Chief, Division of Technology Applications, Office of Performance and Technology, 200 Constitution Avenue, NW., Washington, DC 20210, telephone (202) 693-3493 (this is not a toll-free number), e-mail Wilson.david@dol.gov. For technical assistance with the iCERT Portal System you may also write to OFLC.Portal@dol.gov or see the iCERT Factsheet on the ETA Web site. For program-related issues, please contact the appropriate National Processing Center's help desk. For LCA questions write to lca.chicago@dol.gov. For PERM questions write to plc.atlanta@dol.gov or call: (312) 886-8000 (this is not a toll-free number).

SUPPLEMENTARY INFORMATION:

I. Background

The Department of Labor's Employment and Training Administration (ETA), Office of Foreign Labor Certification (OFLC) provides national leadership and policy guidance and develops regulations and administrative procedures to carry out the responsibilities of the Secretary of Labor under the Immigration and Nationality Act (INA) concerning foreign workers seeking admission to the United States in order to work under the labor certification programs authorized by the INA. In the H-1B (including H-1B1 and E-3) program, the Secretary of Labor must receive an attestation from the employer about wages, working conditions, strikes, lockouts, notice, recruitment and other issues related to the possible displacement of U.S. workers as specified by Congress in 8 U.S.C. 1182(n) and (t). See also 20 CFR part 653 and 20 CFR part 655, subparts H and I.

In the permanent labor certification program (PERM), the Secretary of Labor must certify that: (1) There are not sufficient workers who are able, willing, qualified, and available at the time of application for a visa and admission to the United States and at the place where the alien is to perform such skilled or unskilled labor; and (2) employment of the foreign worker will not adversely affect the wages and working conditions of similarly employed U.S. workers. See 8 U.S.C. 1182(a)(5)(A)(i); 20 CFR part 656.

The H-1B nonimmigrant program provides a means for U.S. employers to employ foreign workers on a temporary basis in specialty occupations while the PERM program allows employers to employ foreign workers on a permanent basis. Currently, both programs have electronic applications that can be filled out and submitted on-line. The H-1B nonimmigrant program requires electronic submission. However, the two electronic systems are not linked and an employer desiring to file applications in both systems must set up separate accounts. In addition, the PERM system does not allow attorneys or agents to have their own accounts. The new iCERT system will allow program users to set up one account and multiple subaccounts and utilize the account to file in both programs. There are enhanced security measures that allow employers, attorneys, and agents to control who is authorized to input data and who is authorized to submit applications.

II. Information on iCERT System Activation Dates

The Department plans to initially activate the iCERT system for purposes of establishing user accounts and filing the new LCA form (9035E). The system will be located at http://icert.doleta.gov. On and after April 15, 2009, the iCERT portal will be available for the submission of ETA 9035E (electronic LCA H-1B application). The current electronic LCA system will continue to be available through May 14, 2009. However, effective May 15, 2009, the LCA for the H-1B program will be available for submission only through the iCERT portal system.

The PERM application, Form ETA 9089, will become available for application submission on September 1, 2009. To allow for an appropriate transition, both systems will be active during the month of September. However, beginning October 1, 2009, PERM applications will be submitted electronically only through iCERT system accounts.

III. Information on Deactivation of Old Electronic Forms

The Department will deactivate the current electronic version of the Form ETA 9035E on May 15, 2009. The Department will deactivate the current electronic version of the Form ETA 9089 on October 1, 2009. Employers are encouraged to copy all necessary application information into the new iCERT system prior to these deactivation dates. The status of applications submitted prior to deactivation will continue to be available through current system accounts.

IV. Help Desk

The Office of Foreign Labor Certification has implemented a dedicated Help Desk Unit for program assistance at the Chicago National Processing Center (CNPC) to serve as a resource to those employers and/or their representatives in filing LCAs with the Department of Labor. Please submit program-related questions by e-mail to LCA.Chicago@dol.gov. The LCA Help Desk e-mail box will be monitored by the CNPC during the business hours of 8:30 a.m. to 5 p.m. Central Time Monday through Friday. Your e-mail inquiries will be handled as expeditiously as possible.

Signed at Washington, DC, this 6th day of April 2009.
Douglas F. Small,
Deputy Assistant Secretary.

[FR Doc. E9-8505 Filed 4-14-09; 8:45 am]

BILLING CODE 4510-FP-P